COMMITTEE FOR THE IMPLEMENTATION OF TEXTILE AGREEMENTS

Withdrawal of One Commercial Availability Petition Under the United States—Caribbean Basin Trade Partnership Act (CBTPA)

AGENCY: Committee for the Implementation of Textile Agreements (CITA).

ACTION: The petitioner has notified CITA that it is withdrawing one of the four petitions it submitted for a determination that certain fancy polyester/rayon suiting fabric cannot be supplied by the domestic industry in commercial quantities in a timely manner under the CBTPA.

SUMMARY: On August 3, 2004, the Chairman of CITA received four petitions from Sharretts, Paley, Carter & Blauvelt, P.C., on behalf of Fishman & Tobin, alleging that certain woven fabrics, of certain specifications, cannot be supplied by the domestic industry in commercial quantities in a timely manner. The petitions requested that apparel articles of such fabrics assembled in one or more CBTPA beneficiary countries be eligible for preferential treatment under the CBTPA. On August 9, 2004, CITA published a notice in the Federal Register (69 FR 48224) soliciting public comments on these petitions, in particular with regard to whether these fabrics can be supplied by the domestic industry in commercial quantities in a timely manner.

On August 24, 2004, CITA received letter from Sharretts, Paley, Carter & Blauvelt, P.C. withdrawing one of the petitions. The fabric covered by the petition that is being withdrawn was identified as Fabric 2 in the Federal Register notice. The specifications of this fabric are repeated below.

FOR FURTHER INFORMATION CONTACT: Martin J. Walsh, International Trade Specialist, Office of Textiles and Apparel, U.S. Department of Commerce, (202) 482-2818.

SUPPLEMENTARY INFORMATION:

Specifications:

Fabric 2 |
HTS Subheading: | 5515.11.00.05
Fiber Content: | 65% Polyester/35% Rayon
Width: | 58/59 inches
Construction: | Two-ply carded and ring spun yarns in the warp and fill.
Dyeing: | Yarns are made from dyed fibers.

D. Michael Hutchinson,
Acting Chairman, Committee for the Implementation of Textile Agreements.

[FR Doc. E4-1987 Filed 8-31-04; 8:45 a.m.]

BILLING CODE 3510-DR-S